OFFICE OF THE UNITED STATES TRADE REPRESENTATIVE

[Dispute No. WTO/DS449]

WTO Dispute Settlement Proceeding Regarding United States—Countervailing and Anti-Dumping Measures on Certain Products From China

AGENCY: Office of the United States Trade Representative.

ACTION: Notice; request for comments.

SUMMARY: The Office of the United States Trade Representative (“USTR”) is providing notice that on September 17, 2012, the People's Republic of China (“China”) requested consultations with the United States under the Marrakesh Agreement Establishing the World Trade Organization (“WTO Agreement”) concerning Public Law 112-99, “An act to apply the countervailing duty provisions of the Tariff Act of 1930 to nonmarket economy countries, and for other purposes” (“Pub. L. 112-99”), and the countervailing and anti-dumping duty determinations and actions by the Department of Commerce, the U.S. International Trade Commission and the U.S. Customs and Border Protection on imports of the products from China listed below. That request may be found at www.wto.org contained in a document designated as WT/DS449/1. USTR invites written comments from the public concerning the issues raised in this dispute.

DATES: Although USTR will accept any comments received during the course of the dispute settlement proceedings, comments should be submitted on or before November 1, 2012, to be assured of timely consideration by USTR.

ADDRESSES: Public comments should be submitted electronically to www.regulations.gov, docket number USTR-2012-0031. If you are unable to provide submissions by www.regulations.gov, please contact Sandy McKinzy at (202) 395-9483 to arrange for an alternative method of transmission.

If (as explained below) the comment contains confidential information, then the comment should be submitted by fax only to Sandy McKinzy at (202) 395-3640.

FOR FURTHER INFORMATION CONTACT: Lisa Wang, Assistant General Counsel, or Joseph Rieras, Assistant General Counsel, Office of the United States Trade Representative, 600 17th Street NW., Washington, DC 20508, (202) 395-3150.

SUPPLEMENTARY INFORMATION: USTR is providing notice that consultations have been requested pursuant to the WTO Understanding on Rules and Procedures Governing the Settlement of Disputes (“DSU”). If such consultations should fail to resolve the matter and a dispute settlement panel is established pursuant to the DSU, such panel, which would hold its meetings in Geneva, Switzerland, would be expected to issue a report on its findings and recommendations within nine months after it is established.

Major Issues Raised by China

On September 17, 2012, China requested consultations concerning: (1) Section 1 of Public Law 112-99, “Application of Countervailing Duty Provisions to Nonmarket Economy Countries”; and (2) Section 2 of Public Law 112-99, “Adjustment of Antidumping Duty in Certain Proceedings Relating to Imports from Nonmarket Economy Countries.”

China also challenges the concurrent application of anti-dumping and countervailing duties under the nonmarket economy methodology with respect to the following investigations and reviews initiated between November 20, 2006 and March 13, 2012 on imports from China: Coated Free Sheet Paper (C-570-907); Circular Welded Carbon Quality Steel Pipe (C-570-911); Light-Walled Rectangular Pipe and Tube (C-570-915); Laminated Woven Sacks (C-570-917); Certain New Pneumatic Off-The-Road Tires; (C-570-913); Certain New Pneumatic Off-The-Road Tires, Administrative Review (C-570-913); Raw Flexible Magnets (C-570-923); Lightweight Thermal Paper (C-570-921); Sodium Nitrite (C-570-926); Circular Welded Austenitic Stainless Pressure Pipe (C-570-931); Certain Circular Welded Carbon Quality Steel Line Pipe (C-570-936); Citric Acid and Certain Citrate Salts (C-570-938); Citric Acid and Certain Citrate Salts, Administrative Review (C-570-938); Certain Tow Behind Lawn Groomers and Certain Parts Thereof (C-570-940); Certain Kitchen Appliance Shelving and Racks (C-570-942); Certain Kitchen Appliance Shelving and Racks, Administrative Review (C-570-942), Certain Oil Country Tubular Goods (C-570-944), Prestressed Concrete Steel Wire Strand (C-570-946); Certain Steel Grating (C-570-948); Wire Decking (C-570-950); Narrow Woven Ribbons With Woven Selvedge (C-570-953); Certain Magnesia Carbon Bricks (C-570-955); Certain Seamless Carbon and Alloy Steel Standard, Line, and Pressure Pipe (C-570-957); Certain Coated Paper Suitable for High-Quality Print Graphics Using Sheet-Fed Presses (C-570-959); Certain Potassium Phosphate Salts (C-570-963); Drill Pipe (C-570-966); Aluminum Extrusions (C-570-968); Multilayered Wood Flooring (C-570-971); Certain Steel Wheels (C-570-974); Galvanized Steel Wire (C-570-976); High Pressure Steel Cylinders (C-570-978); Crystalline Silicon Photovoltaic Cells, Whether or Not Assembled Into Modules, (C-570-980); Utility Scale Wind Towers (C-570-982); Drawn Stainless Steel Sinks (C-570-984); Coated Free Sheet Paper (A-570-906); Circular Welded Carbon Quality Steel Pipe (A-570-910); Light-Walled Rectangular Pipe and Tube (A-570-916); Laminated Woven Sacks (A-570-914); Certain New Pneumatic Off-The-Road Tires (A-570-912); Certain New Pneumatic Off-The-Road Tires, Administrative Review (A-570-912); Raw Flexible Magnets (A-570-922); Lightweight Thermal Paper (A-570-920); Sodium Nitrite (A-570-925); Circular Welded Austenitic Stainless Pressure Pipe (A-570-930); Certain Circular Welded Carbon Quality Steel Line Pipe (A-570-935); Citric Acid and Certain Citrate Salts (A-570-937); Citric Acid and Certain Citrate Salts, Administrative Review (A-570-937); Certain Tow Behind Lawn Groomers and Certain Parts Thereof (A-570-939); Certain Kitchen Appliance Shelving and Racks (A-570-941); Certain Kitchen Appliance Shelving and Racks, Administrative Review (A-570-941); Certain Oil Country Tubular Goods (A-570-943); Prestressed Concrete Steel Wire Strand (A-570-945); Certain Steel Grating (A-570-947); Wire Decking (A-570-949); Narrow Woven Ribbons With Woven Selvedge (A-570-952); Certain Magnesia Carbon Bricks (A-570-954); Certain Seamless Carbon and Alloy Steel Standard, Line, and Pressure Pipe (A-570-956); Certain Coated Paper Suitable for High-Quality Print Graphics Using Sheet-Fed Presses (A-570-958); Certain Potassium Phosphate Salts (A-570-962); Drill Pipe (A-570-965); Aluminum Extrusions (A-570-967); Multilayered Wood Flooring (A-570-970); Certain Steel Wheels (A-570-973); Galvanized Steel Wire (A-570-975); High Pressure Steel Cylinders (A-570-977); Crystalline Silicon Photovoltaic Cells, Whether or Not Assembled Into Modules (A-570-979); Utility Scale Wind Towers (A-570-981); and Drawn Stainless Steel Sinks (A-570-983).

China alleges inconsistencies with Articles VI, X:1, X:2, X:3 of the General Agreement on Tariffs and Trade 1994 (“GATT 1994”), Articles 10, 15, 19, 21 and 32 of the Agreement on Subsidies and Countervailing Measures, and Articles 9 and 11 of the Agreement on Implementation of Article VI of the GATT 1994. The challenged investigations and reviews are available at the following web page of the Department of Commerce: http://ia.ita.doc.gov/frn/index.html.

Public Comment: Requirements for Submissions

Interested persons are invited to submit written comments concerning the issues raised in this dispute. Persons may submit public comments electronically to www.regulations.gov docket number USTR-2012-0031. If you are unable to provide submissions by www.regulations.gov, please contact Sandy McKinzy at (202) 395-9483 to arrange for an alternative method of transmission.

To submit comments via www.regulations.gov, enter docket number USTR-2012-0031 on the home page and click “search”. The site will provide a search-results page listing all documents associated with this docket. Find a reference to this notice by selecting “Notice” under “Document Type” on the left side of the search-results page, and click on the link entitled “Comment Now!.” (For further information on using the www.regulations.gov Web site, please consult the resources provided on the Web site by clicking on “How to Use Regulations.gov” on the bottom of the page.)

The www.regulations.gov site provides the option of providing comments by filling in a “Type Comments” field or by attaching a document using an “upload file” field. It is expected that most comments will be provided in an attached document. If a document is attached, it is sufficient to type “See attached” in the “Type Comments” field.

A person requesting that information contained in a comment submitted by that person be treated as confidential business information must certify that such information is business confidential and would not customarily be released to the public by the submitter. Confidential business information must be clearly designated as such and the submission must be marked “BUSINESS CONFIDENTIAL” at the top and bottom of the cover page and each succeeding page. Any comment containing business confidential information must be submitted by fax to Sandy McKinzy at (202) 395-3640. A non-confidential summary of the confidential information must be submitted to www.regulations.gov. The non-confidential summary will be placed in the docket and open to public inspection.

Information or advice contained in a comment submitted, other than business confidential information, may be determined by USTR to be confidential in accordance with section 135(g)(2) of the Trade Act of 1974 (19 U.S.C. 2155(g)(2)). If the submitter believes that information or advice may qualify as such, the submitter—

(1) Must clearly so designate the information or advice;

(2) Must clearly mark the material as “SUBMITTED IN CONFIDENCE” at the top and bottom of the cover page and each succeeding page; and

(3) Must provide a non-confidential summary of the information or advice. Any comment containing confidential information must be submitted by fax. A non-confidential summary of the confidential information must be submitted to www.regulations.gov. The non-confidential summary will be placed in the docket and open to public inspection.

Pursuant to section 127(e) of the Uruguay Round Agreements Act (19 U.S.C. 3537(e)), USTR will maintain a docket on this dispute settlement proceeding accessible to the public at www.regulations.gov, docket number USTR-2012-0031.

The public file will include non-confidential comments received by USTR from the public with respect to the dispute. If a dispute settlement panel is convened or in the event of an appeal from such a panel, the U.S. submissions, any non-confidential submissions, or non-confidential summaries of submissions, received from other participants in the dispute, will be made available to the public on USTR's Web site at www.ustr.gov, and the report of the panel, and, if applicable, the report of the Appellate Body, will be available on the Web site of the World Trade Organization, www.wto.org. Comments open to public inspection may be viewed on the www.regulations.gov Web site.

Juan Millan,
Acting Assistant United States Trade Representative for Monitoring and Enforcement.

[FR Doc. 2012-25061 Filed 10-10-12; 8:45 am]

BILLING CODE 3290-F3-P